ENVIRONMENTAL PROTECTION AGENCY

[EPA-HQ-OPP-2015-0386; FRL-9940-09]

Pesticide Registration Review; Draft Human Health and Ecological Risk Assessments for Certain Organophosphates; Extension of Comment Period

AGENCY: Environmental Protection Agency (EPA).

ACTION: Notice; extension of comment period.

SUMMARY: EPA issued a notice in the Federal Register of September 25, 2015, opening a comment period on draft human health and ecological risk assessments for certain organophosphate pesticides listed in Table 1, along with additional chemicals. Following this, EPA issued a notice in the Federal Register of November 20, 2015, extending the comment period for an additional 45 days, until January 8, 2016. This document extends the close of the comment period for an additional 45 days for only the chemicals listed in Table 1, from January 8, 2016 to February 23, 2016. This comment period is being extended in response to comments received by the Agency. The Agency is also taking comments on the document entitled, “Literature Review on Neurodevelopment Effects & FQPA Safety Factor Determination for the Organophosphate Pesticides” in conjunction with this comment period and not through a separate comment period.

DATES: Comments, identified by docket identification (ID) numbers identified in Table 1 must be received on or before February 23, 2016.

ADDRESSES: Follow the detailed instructions provided under ADDRESSES in the Federal Register document of September 25, 2015 (80 FR 57812) (FRL-9933-68).

FOR FURTHER INFORMATION CONTACT: Persons listed with individual chemicals in Table 1.

SUPPLEMENTARY INFORMATION:

This document extends the public comment period for certain chemicals established in the Federal Register document of September 25, 2015 (80 FR 57812) (FRL-9933-68). In that document, a public comment period opened on EPA's draft human health and ecological risk assessments for the registration review of certain members of a group of pesticides known collectively as organophosphates (found in Table 1) and the document entitled, “Literature Review on Neurodevelopment effects; FQPA Safety Factor Determination for the Organophosphate Pesticides,” and a number of other chemicals. Following this, EPA issued a Notice in the Federal Register of November 20, 2015 (80 FR 72717) (FRL-9936-94), extending the comment period for an additional 45 days, until January 8, 2016. EPA is hereby further extending the comment period for only the chemicals, and their associated support documents, found in Table 1, which was set to end on January 8, 2016, to February 23, 2016.

Table 1—Chemicals With Extended Comment Periods
Registration review case name and No. | Docket ID No. | Chemical review manager and contact information
Chlorpyrifos-methyl 8011 | EPA-HQ-OPP-2010-0119 | Dana L. Friedman, friedman.dana@epa.gov, (703) 347-8827.
Dicrotophos Case 0145 | EPA-HQ-OPP-2008-0440 | Khue Nguyen, Nguyen.khue@epa.gov, (703) 347-0248.
Dimethoate 0088 | EPA-HQ-OPP-2009-0059 | Kelly Ballard, ballard.kelly@epa.gov, (703) 305-8126.
Ethoprop 0106 | EPA-HQ-OPP-2008-0560 | Tracy Perry, perry.tracy@epa.gov, (703) 308-0128.
Profenofos 2540 | EPA-HQ-OPP-2008-0345 | Christina Scheltema, scheltema.christina@epa.gov, (703) 308-2201.
Terbufos 0109 | EPA-HQ-OPP-2008-0119 | Matthew Manupella, manupella.matthew@epa.gov, (703) 347-0411.
Tribufos 2145 | EPA-HQ-OPP-2008-0883 | Marianne Mannix, mannix.marianne@epa.gov, (703) 347-0275.

To submit comments, or access the docket, please follow the detailed instructions provided under ADDRESSES in the Federal Register document of September 25, 2015. If you have questions on individual chemicals, consult the person listed in Table 1.

Authority: 7 U.S.C. 136 et seq.

Dated: December 16, 2015.
Richard P. Keigwin, Jr.,
Director, Pesticide Re-Evaluation Division, Office of Pesticide Programs.

[FR Doc. 2015-32326 Filed 12-22-15; 8:45 am]

BILLING CODE 6560-50-P